DEPARTMENT OF THE INTERIOR

Bureau of Land Management

43 CFR Part 3900

[WO-3201310-PP-OSHL]

RIN 1004-AD90

Commercial Oil Shale Leasing Program

AGENCY: Bureau of Land Management, Interior.

ACTION: Advance Notice of Proposed Rulemaking.

SUMMARY: The Bureau of Land Management (BLM) requests comments and suggestions to assist in the writing of a proposed rule to establish a commercial leasing program for oil shale.

The Energy Policy Act of 2005 directs the Secretary of the Interior to: (1) Complete a Programmatic Environmental Impact Statement (PEIS) for a commercial leasing program for oil shale and tar sands resources on public lands, with emphasis on the most geologically prospective lands within Colorado, Utah and Wyoming, and (2) Publish a final rule establishing such program, not later than 180 days after completion of the PEIS. On May 18, 2006, BLM published a final rule for the leasing of tar sands.

As an aid in preparing the proposed rule to establish an oil shale commercial leasing system and regulate oil shale mining operations, we encourage members of the public to provide comments and suggestions on the following key components; royalty rate; fair market value for conversion of preference right acreage and for commercial leasing; diligence; royalty determination point; and small tract leasing. See Section III for a list of specific questions relating to these topics.

DATES: We will accept comments and suggestions on the Advance Notice of Proposed Rulemaking until September 25, 2006.

ADDRESSES: You may submit comments by any of the following methods:

Mail: Director (630), Bureau of Land Management, Administrative Record, Room 401 LS, Eastern States Office, 7450 Boston Boulevard, Springfield, Virginia 22153.

Personal or messenger delivery: Room 401, 1620 L Street, NW., Washington, DC 20036.

Federal eRulemaking Portal: http://www.regulations.gov.

E-mail: Comments_washington@blm.gov. (Include “Attn: 1004-AD90”)

FOR FURTHER INFORMATION CONTACT: For information on the substance of the Advance Notice, please contact Ted Murphy at (202) 452-0350. For information on procedural matters, please contact Kelly Odom at (202) 452-5028. Persons who use a telecommunications device for the deaf (TDD) may call the Federal Information Relay Service (FIRS) at 1-800-877-8339, to contact the above individuals during business hours. FIRS is available twenty-four hours a day, seven days a week.

SUPPLEMENTARY INFORMATION:

I. Public Comment Procedures

Commenting on the Advance Notice of Proposed Rulemaking

Written comments or suggestions should:

—Be specific;

—Explain the reasoning behind your comments and suggestions; and

—Address the issues outlined in the Notice.

For comments and recommendations to be the most useful, and most likely to influence decisions on the content of the proposed rule, they should:

—Be substantive;

—Facilitate the development and implementation of an environmentally-responsible commercial leasing system for Federally owned oil shale resources located on Federal lands.

The BLM is particularly interested in receiving comments and suggestions about the topics listed in SECTION III of this Notice. All communication on these topics should refer to RIN 1004-AD90 and may be submitted by several methods listed under the ADDRESSES section of this notice.

Comments received after the close of the comment period (see DATES) may not necessarily be considered or included in the Administrative Record for the proposed rule. Likewise, comments delivered to an address other than those listed above (see ADDRESSES) need not be considered or included in the Administrative Record for the proposed rule.

Reviewing Comments Submitted by Others

Comments, including names and street addresses of respondents, will be available for public review at the address listed under ADDRESSES Personal or messenger delivery during regular business hours (7:45 a.m. to 4:15 p.m.), Monday through Friday, except holidays. Individual respondents may request confidentiality, which will be honored to the extent allowable by law. Those wishing to withhold their name or address (except for the city or town) must state this prominently at the beginning of their comment, and state a reason for the request. Submissions from organizations or businesses, and from individuals identifying themselves as representatives or officials of organizations or businesses, will be made available for public inspection in their entirety.

II. Background

On December 13, 2005, BLM published in the Federal Register (70 FR 73791) a Notice of Intent (NOI) to prepare a PEIS for Oil Shale and Tar Sands Resources Leasing on public lands administered by the BLM in Colorado, Utah, and Wyoming. The NOI announced that the PEIS will support amendment of existing BLM Resource Management Plans to provide for oil share leasing in each of the three states, and tar sands in Utah. Additionally, the NOI identified preliminary planning criteria, initiated the public scoping process, and invited interested members of the public to provide comments on the scope and objectives of the PEIS. As part of the public scoping process identified in the NOI, public scoping meetings were held in January 2006 at seven western locations.

Through the Oil Shale and Tar Sands Resources Leasing PEIS, the BLM will evaluate decisions regarding which public lands will be open for leasing in Colorado, Utah, and Wyoming and under what constraints. The PEIS will analyze and document the environmental, social, and economic issues associated with alternative approaches for leasing oil shale and tar sands resources. Information about all opportunities for public involvement in the Oil Shale and Tar Sands Leasing PEIS, including releases of documents for review, is available at the project Web site: http://ostseis.anl.gov.

Comments received on the ANPR and the PEIS will be considered in shaping the rule as well as land use planning decisions, both of which are prerequisites to a commercial leasing program. NEPA requirements for the rulemaking will be determined after considering information received in response to this notice and identifying the regulatory issues to be addressed.

The proposed rule that BLM is currently developing constitutes the second step of the Department of the Interior's efforts to initiate a phased or staged approach to oil shale development—the first step being a research, development, and demonstration project (RF&D) authorized dated June 5, 2005 (70 FR 33753), BLM solicited nominations of parcels to be leased for RD&D of oil shale recovery technologies in Colorado, Utah, and Wyoming.

III. Description of Information Requested

The BLM is particularly interested in receiving comments on the following questions relating to regulations it is developing for an oil shale commercial leasing program:

1. What should be the royalty rate and point of royalty determination?

2. Should the regulations establish a process for bid adequacy evaluation, i.e., Fair Market Value determination, or should the regulations establish a minimum acceptable lease bonus bid?

3. How should diligent development be determined?

4. What should be the minimum production requirement?

5. Should there be provisions for small tract leasing?

The BLM is also interested in receiving any other comments regarding contents and structure of the oil shale leasing program, including the management of mining operations. Comments focused on environmental issues should be directed to those preparing the Programmatic EIS. For information on how to submit such comments, see http://ostseis.anl.gov.

Dated: August 16, 2006.
Chad Calvert,
Acting Assistant Secretary, Land and Minerals Management.

[FR Doc. 06-7136 Filed 8-24-06; 8:45 am]

BILLING CODE 4310-84-M